Title 3—

The President

Proclamation 10791 of August 16, 2024

National Employer Support of the Guard and Reserve Week, 2024

By the President of the United States of America

A Proclamation

Every member of the National Guard and Reserve forms a link in the chain of honor that stretches back far before our Nation's founding. Throughout the centuries, these extraordinary citizens have committed themselves to a life of service and sacrifice for the United States. During National Employer Support of the Guard and Reserve Week, we show gratitude for the members of our National Guard and Reserve, who protect, defend, and serve our Nation. And we thank their patriotic civilian employers, who go above and beyond to support their mission.

The First Lady and I have a special place in our hearts for the National Guard and Reserve because our son Major Beau Biden served in the Delaware Army National Guard. We know firsthand the sacrifices these brave women and men make. The members of our National Guard and Reserve must be ready to answer the call of duty at a moment's notice—leaving their civilian jobs behind to serve on missions across the country and around the world. It is a sacrifice that requires agility to adapt to an often unpredictable schedule that affects not only their lives and their families, but their employers as well.

That is why, this week, we thank all the outstanding employers who go above and beyond to ensure the members of our National Guard and Reserve receive the critical support they need. Employers have stepped up when they are away for military training or deployed—from offering flexible leave policies to ensuring their families continue to have access to health care and benefits. Our National Guard and Reserve members' civilian employers empower them to take on critical missions that support national security efforts and keep all of us safe.

Our National Guard and Reserve service members serve to preserve our freedom because they know that freedom is never guaranteed. Every generation has to earn it, fight for it, and defend it. Our service members' sacrifices ensure that America continues to have the greatest fighting force in the history of the world, and we are grateful to all the employers across the country who help make it possible. These employers are a reminder that there is truly nothing we cannot accomplish as a Nation if we work together. This week, may we show our gratitude for our troops and all the employers who support their mission.

NOW, THEREFORE, I, JOSEPH R. BIDEN JR., President of the United States of America, by virtue of the authority vested in me by the Constitution and the laws of the United States, do hereby proclaim August 18 through August 24, 2024, as National Employer Support of the Guard and Reserve Week. I call upon all Americans to observe this week by honoring our National Guard and Reserve service members, who sacrifice so much to keep our country and communities safe and secure, and to commend the employers who empower these service members to thrive.

IN WITNESS WHEREOF, I have hereunto set my hand this sixteenth day of August, in the year of our Lord two thousand twenty-four, and of the Independence of the United States of America the two hundred and forty-ninth.

[FR Doc. 2024-18875

Filed 8-20-24; 8:45 am]

Billing code 3395-F4-P